DEPARTMENT OF THE TREASURY

Community Development Financial Institutions Fund

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Community Development Financial Institutions Fund (CDFI) Fund, Department of the Treasury, is soliciting comments concerning the CDFI Certification Application.

DATES: Written comments should be received on or before December 8, 2014 to be assured of consideration.

ADDRESSES: Direct all comments to David Meyer, Program Manager, Certification, Compliance Monitoring, and Evaluation, at the Community Development Financial Institutions Fund, U.S. Department of the Treasury, 1500 Pennsylvania Avenue NW., Washington, DC 20020, by email to cdfihelp@cdfi.treas.gov or by facsimile to (202) 508-0083. Please note this is not a toll free number.

FOR FURTHER INFORMATION CONTACT: Requests for additional information should be directed to David Meyer, Program Manager, Certification, Compliance Monitoring, and Evaluation, at the Community Development Financial Institutions Fund, U.S. Department of the Treasury, 1500 Pennsylvania Avenue NW., Washington, DC 20020 by email to cdfihelp@cdfi.treas.gov or by facsimile to (202) 508-0083. Please note this is not a toll free number.

SUPPLEMENTARY INFORMATION:

OMB Number: 1559-0028.

Title: The Community Development Financial Institutions Certification Application.

ABSTRACT: A certified Community Development Financial Institution (CDFI) is a specialized financial institution that works in market niches that are underserved by traditional financial institutions. CDFIs provide a unique range of financial products and services in economically distressed target markets, such as mortgage financing for low-income and first-time homebuyers and not-for-profit developers, flexible underwriting and risk capital for needed community facilities, and technical assistance, commercial loans and investments to small start-up or expanding businesses in low-income areas. CDFIs include regulated institutions such as community development banks and credit unions, and non-regulated institutions such as loan and venture capital funds.

CDFI certification is a designation conferred by the CDFI Fund and is a requirement for accessing financial and technical assistance awards from the CDFI Fund through the CDFI Program and Native American CDFI Assistance Program, as well as certain benefits under the Bank Enterprise Award Program, to support an organization's established community development financing programs. A financial institution seeking to become a certified CDFI and qualify to access assistance from the CDFI Fund must complete the CDFI Certification Application.

Type of Review: Extension without change.

Affected Public: Private Sector: Businesses or other for-profits, Not-for-profit institutions; State, Local, and Tribal Governments.

Estimated Number of Respondents: 300.

Estimated Annual Time per Respondent: 37.5 hours.

Estimated Total Annual Burden Hours: 11,250 hours.

Requests for Comments: Comments submitted in response to this notice will be summarized and/or included in the request for OMB approval. All comments will become a matter of public record and may be published on the CDFI Fund Web site at http://www.cdfifund.gov. Comments are invited on: (a) Whether the collection of information is necessary for the proper performance of the functions of the CDFI Fund, including whether the information shall have practical utility; (b) the accuracy of the CDFI Fund's estimate of the burden of the collection of information; (c) ways to enhance the quality, utility, and clarity of the information to be collected; (d) ways to minimize the burden of the collection of information on respondents, including through the use of technology; and (e) estimates of capital or start-up costs and costs of operation, maintenance, and purchase of services to provide information.

Authority: 12 U.S.C. 4703, 4703 note, 4704, 4706, 4707, 4717; 12 CFR part 1805.

Dated: September 30, 2014.
Dennis Nolan,
Deputy Director, Community Development Financial Institutions Fund.

[FR Doc. 2014-24120 Filed 10-8-14; 8:45 am]

BILLING CODE 4810-70-P